DEPARTMENT OF THE INTERIOR

Fish and Wildlife Service

[FWS-R3-ES-2013-N127; FXES11130300000F3-234-FF03E00000]

Endangered and Threatened Wildlife and Plants; Permit Applications

AGENCY: Fish and Wildlife Service, Interior.

ACTION: Notice of availability of permit applications; request for comments.

SUMMARY: We, the U.S. Fish and Wildlife Service (USFWS), invite the public to comment on the following applications to conduct certain activities with endangered species. With some exceptions, the Endangered Species Act (Act) prohibits activities with endangered and threatened species unless a Federal permit allows such activity. The Act requires that we invite public comment before issuing these permits.

DATES: We must receive any written comments on or before July 1, 2013.

ADDRESSES: Send written comments by U.S. mail to the Regional Director, Attn: Lisa Mandell, U.S. Fish and Wildlife Service, Ecological Services, 5600 American Blvd. West, Suite 990, Bloomington, MN 55437-1458; or by electronic mail to permitsR3ES@fws.gov.

FOR FURTHER INFORMATION CONTACT: Lisa Mandell, (612) 713-5343.

SUPPLEMENTARY INFORMATION:

Background

We invite public comment on the following permit applications for certain activities with endangered species authorized by section 10(a)(1)(A) of the Act (16 U.S.C. 1531 et seq.) and our regulations governing the taking of endangered species in the Code of Federal Regulations (CFR) at 50 CFR part 17. Submit your written data, comments, or request for a copy of the complete application to the address shown in ADDRESSES.

Permit Applications

Permit Application Number: TE06873B.

Applicant: Drew R. Carson, Cincinnati, OH.

The applicant requests a permit to take (capture and release) Indiana bats (Myotis sodalis) and Gray bats (Myotis grisescens) throughout the range of the species in Alabama, Arkansas, Florida, Georgia, Illinois, Indiana, Iowa, Kentucky, Michigan, Mississippi, Missouri, New York, North Carolina, Ohio, Pennsylvania, South Carolina, and Tennessee. Proposed activities are for the recovery and enhancement of survival of the species in the wild.

Permit Application Number: TE07292B.

Applicant: Matthew J. Clement, U.S. Geological Survey, Laurel, MD.

The applicant requests a permit to take (capture and release) Indiana bats and gray bats within the States of Illinois, Indiana, Iowa, Michigan, Missouri, Ohio, and Wisconsin. Proposed activities are for the recovery and enhancement of survival of the species in the wild.

Permit Application Number: TE07293B.

Applicant: Daniel J. Call, Dubuque, IA.

The applicant requests a permit to take (capture and release) Higgins eye pearlymussel (Lampsilis higginsii), winged mapleleaf mussel (Quadrula fragosa), fat pocketbook (Potamilus capax), Scaleshell (Leptodea leptodon), Sheepnose (Plethobasus cyphyus), and Spectaclecase (Cumberlandia monodonta) within the Upper Mississippi River, Pool 12 (Illinois). The proposed activity is for the recovery and enhancement of survival of the species in the wild.

Permit Application Number: TE07294B.

Applicant: Ecological Specialties, LLC, Symsonia, KY.

The applicant requests a permit to take (capture and release) Indiana bats, gray bats, Virginia big-eared bats (Corynorhinus townsendii virginianus), Ozark big-eared bats (Corynorhinus townsendii ingens), Mexican long-nosed bat (Leptonycteris nivalis), and Sanborn's long-nosed bat (Leptonycteris sanborni (=yerbabuenae)) throughout the States of Alabama, Arkansas, California, Illinois, Indiana, Iowa, Kentucky, Michigan, Minnesota, Missouri, New Jersey, New Mexico, New York, Ohio, Pennsylvania, Tennessee, Texas, Virginia, and West Virginia. Proposed activities are for the recovery and enhancement of survival of the species in the wild.

Permit Application Number: TE07295B.

Applicant: Blue Creek Wind Farm, LLC, Van Wert, OH.

The applicant requests a permit to take (harm, harass, kill) Indiana bats in Paulding and Van Wert Counties, Ohio. Proposed activities include a research study of methods to reduce bat fatality rates and a study of the meteorological conditions associated with casualty rates at the Blue Creek Wind Farm. Proposed activities are aimed at conservation of the species through reduction of impacts at wind energy facilities.

Public Comments

We seek public review and comments on these permit applications. Please refer to the permit number when you submit comments. Comments and materials we receive are available for public inspection, by appointment, during normal business hours at the address shown in the ADDRESSES section. Before including your address, phone number, email address, or other personal identifying information in your comment, you should be aware that your entire comment—including your personal identifying information—may be made publicly available at any time. While you can ask us in your comment to withhold your personal identifying information from public review, we cannot guarantee that we will be able to do so.

Dated: May 24, 2013.
Lynn M. Lewis,
Assistant Regional Director, Ecological Services, Midwest Region.

[FR Doc. 2013-12895 Filed 5-30-13; 8:45 a.m.]

BILLING CODE 4310-55-P